FEDERAL COMMUNICATIONS COMMISSION

47 CFR Part 73

[MB Docket No. 21-72; RM-11888; DA 21-271; FR ID 17578]

Television Broadcasting Green Bay, Wisconsin

AGENCY: Federal Communications Commission.

ACTION: Proposed rule.

SUMMARY: The Video Division has before it a petition for rulemaking filed November 27, 2020 (Petition) by WULK Licensee, LLC (Licensee), the licensee of WULK-TV (FOX), channel 12, Green Bay, Wisconsin. The Licensee requests the substitution of channel 18 for channel 12 at Green Bay, Wisconsin the digital television (DTV) Table of Allotments.

DATES: Comments must be filed on or before April 26, 2021 and reply comments on or before May 10, 2021.

ADDRESSES: Federal Communications Commission, Office of the Secretary, 45 L Street NE, Washington, DC 20554. In addition to filing comments with the FCC, interested parties should serve counsel for petitioner as follows: Paul A. Cicelski, Esq., Lerman Senter PLLC, 2001 L Street NW, Washington, DC 20036.

FOR FURTHER INFORMATION CONTACT: Joyce Bernstein, Media Bureau, at (202) 418-1647 or Joyce Bernstein@fcc.gov.

SUPPLEMENTARY INFORMATION: In support of its channel substitution request, the Licensee states that the Commission has recognized that VHF channels have certain propagation characteristics which may cause reception issues for some viewers, and that the reception of VHF signals require larger antennas relative to UHF channels. According to the Licensee, WLUK-TV has received numerous complaints from viewers unable to receive its signal and the Licensee's channel substitution proposal will result in more effective building penetration for indoor antenna reception and greatly improve the Station's ability to provide ATSC 3.0 service to homes, vehicles, and portable devices. The Licensee further states that it will continue to serve all of the population located within the licensed channel 12 contour and that three other FOX-affiliated stations provide a signal to portions of the licensed channel 12 facility. We believe that the Licensee's channel substitution proposal warrants consideration. Channel 18 can be substituted for channel 12 at Green Bay, Wisconsin as proposed, in compliance with the principal community coverage requirements of the Commission's rules at coordinates 44-24-32.0 N and 87-59-31.0 W. In addition, we find that this channel change meets the technical requirements set forth in our regulations.

This is a synopsis of the Commission's Notice of Proposed Rulemaking, MB Docket No. 21-72; RM-11888; DA 21-271, adopted March 4, 2021, and released March 4, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, and 339.

2. In § 73.622 (i) amend the Post-Transition Table of DTV Allotments under Wisconsin by revising the entry for Green Bay to read as follows:

§ 73.622 Digital television table of allotments.

* * * * *

(i) * * *

Community | Channel No.
* * * * *
Wisconsin
* * * * *
Green Bay | 18, 23, 39, 41, * 42
* * * * *

[FR Doc. 2021-06155 Filed 3-24-21; 8:45 am]

BILLING CODE 6712-01-P